DEPARTMENT OF AGRICULTURE

Office of the Secretary

Request for Nominations of Members for the National Agricultural Research, Extension, Education, and Economics Advisory Board

AGENCY: Research, Education, and Economics, USDA.

ACTION: Solicitation for membership.

SUMMARY: In accordance with the Federal Advisory Committee Act, 5 U.S.C. App., the United States Department of Agriculture announces the solicitation for nominations to fill 8 vacancies on the National Agricultural Research, Extension, Education, and Economics Advisory Board.

DATES: All nomination materials should be mailed in a single, complete package and postmarked by June 28, 2013.

ADDRESSES: The nominee's name, resume, and completed Form AD-755 must be sent to the U.S. Department of Agriculture, National Research, Extension, Education, and Economics Advisory Board Office, 1400 Independence Avenue SW., Room 3901, South Building, Washington, DC 20250-2255.

FOR FURTHER INFORMATION CONTACT: Shirley Morgan-Jordan, Program Support Coordinator, National Agricultural Research, Extension, Education, and Economics Advisory Board, 1400 Independence Avenue SW., Room 3901, South Building, Washington, DC 20250-2255, telephone: 202-720-3684; fax: 202-720-6199; email: shirley.morgan@ars.usda.gov.

SUPPLEMENTARY INFORMATION: Section 1408 of the National Agricultural Research, Extension, and Teaching Policy Act of 1977 (7 U.S.C. 3123) was amended by the Farm Security and Rural Investment Act of 2008 by deleting six members to the National Agricultural Research, Extension, Education, and Economics Advisory Board, which totals 25 members. Since the Advisory Boards inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for a one, two, and three-year term, respectively. The terms for 8 members who represent specific categories will expire September 30, 2013. Nominations for a 3-year appointment for these 8 vacant categories are sought. All nominees will be carefully reviewed for their expertise, leadership, and relevance to a category.

The 8 slots to be filled are:

F. National Food Animal Science Society

G. National Crop, Soil, Agronomy, Horticulture, or Weed Science Society

L. 1890 Land-Grant Colleges and Universities

P. American Colleges of Veterinary Medicine

T. Rural Economic Development

U. National Consumer Interest Group

V. National Forestry Group

W. National Conservation or Natural Resource Groups

Individuals and organizations who wish to nominate experts for this or any other USDA advisory committee should submit a letter to the Secretary listing these individuals' names and business address, phone, and email contact information. These individuals may be contacted now or in the future to determine their interest in serving as a committee member.

Candidates who wish to be considered for membership on the National Agricultural Research, Extension, Education, and Economics Advisory Board should submit an AD-755 application form and resume to the Secretary of Agriculture. Cover letters should be addressed to the Secretary of Agriculture. The application form and more information about advisory committees can be found at www.usda.gov/advisory_committees.xml.

Nominations for one individual who fits several of the categories listed above, or for more than one person who fits one category, will be accepted. In your nomination letter, please indicate the specific membership category for each nominee. Each nominee must fill out a form AD-755, “Advisory Committee Membership Background Information.” All nominees will be vetted before selection.

Nominations are open to all individuals without regard to race, color, religion, sex, national origin, age, mental or physical handicap, marital status, or sexual orientation. To ensure that recommendations of the Advisory Board take into account the needs of the diverse groups served by the Department, membership shall include, to the extent practicable, individuals with demonstrated ability to represent all racial and ethnic groups, women and men, and person with disabilities.

Appointments to the National Agricultural Research, Extension, Education, and Economics Advisory Board will be made by the Secretary of Agriculture.

Done at Washington, DC, this 16th day of April 2013.
Catherine Woteki,
Under Secretary, Research, Education, and Economics.

[FR Doc. 2013-10392 Filed 5-1-13; 8:45 am]

BILLING CODE 3410-03-P